COUNCIL ON ENVIRONMENTAL QUALITY

National Environmental Policy Act Task Force

AGENCY: Council on Environmental Quality.

ACTION: Notice of public meeting.

SUMMARY: The Council on Environmental Quality (CEQ) established a National Environmental Policy Act (NEPA) Task Force to review the current NEPA implementing practices and procedures in the following areas: Technology and information management; federal and intergovernmental collaboration; programmatic analyses and subsequent tiered documents; and adaptive management and monitoring. In addition, the NEPA Task Force reviewed other NEPA implementation issues such as the level of detail included in agencies' procedures and documentation for promulgating categorical exclusions; the structure and documentation of environmental assessments; and other implementation practices that would benefit federal agencies.

“The Task Force Report to the Council on Environmental Quality—Modernizing NEPA Implementation” was published and presented to CEQ on September 24, 2003. The Report contains recommendations designed to improve federal agency decision making by modernizing the NEPA process. To further the work of the NEPA Task Force, CEQ is holding a series of regional public roundtables to raise public awareness of the NEPA Task Force draft recommendations and discuss the recommendations and their implementation. The Eastern Regional Roundtable will be held at the Southeast Regional Office of the Pennsylvania Department of Environmental Protection, Lee Park (Suite 6010), 555 North Lane in Conshohocken, Pennsylvania on November 13-14, 2003. Representatives from important constituent groups that have worked on NEPA issues have been invited to participate in a discussion of the recommendations. Announcements of future roundtables will be published on the NEPA Task Force Web site and in the Federal Register.

DATES: The eastern regional public roundtable will be held on November 13 and 14 at the Southeast Regional Office of the Pennsylvania Department of Environmental Protection, Lee Park (Suite 6010), 555 North Lane in Conshohocken Pennsylvania, 19428-2233. The session on November 13 will begin at 9 a.m. and interested members of the public will have an opportunity to present their views at 3:30 p.m. following the roundtable discussion. That session will end in the evening after the public's views have been presented. The session on November 14 will begin at 9 a.m. and interested members of the public will have an opportunity to present their views at 11 a.m. following the roundtable discussion.

ADDRESSES: Interested parties can review the Task Force report via the CEQ Web site at http://www.whitehouse.gov/ceq/ or the NEPA Task Force Web site at http:ceq.eh.doe.gov/ntf/. If you would like a printed copy, please mail a request to The NEPA Task Force, 722 Jackson Place, NW., Washington, DC 20585, or contact Bill Perhach at (202) 395-0826 to request a copy.

Dated: October 21, 2003.
James L. Connaughton,
Chairman, Council on Environmental Quality.

[FR Doc. 03-26973 Filed 10-24-03; 8:45 am]

BILLING CODE 3125-01-M